DEPARTMENT OF DEFENSE

Office of the Secretary

[Docket ID: DOD-2018-OS-0015]

Submission for OMB Review; Comment Request

AGENCY: Office of the Under Secretary of Defense for Personnel and Readiness, DoD.

ACTION: 30-day information collection notice.

SUMMARY: The Department of Defense has submitted to OMB for clearance the following proposal for collection of information under the provisions of the Paperwork Reduction Act.

DATES: Consideration will be given to all comments received by October 22, 2018.

ADDRESSES: Comments and recommendations on the proposed information collection should be emailed to Ms. Jasmeet Seehra, DoD Desk Officer, at oira_submission@omb.eop.gov. Please identify the proposed information collection by DoD Desk Officer, Docket ID number, and title of the information collection.

FOR FURTHER INFORMATION CONTACT: Fred Licari, 571-372-0493, or whs.mc-alex.esd.mbx.dd-dod-information-collections@mail.mil.

SUPPLEMENTARY INFORMATION:

Title; Associated Form; and OMB Number: Personnel Security System Access Request (PSSAR) Form; DD Form 2962-1, DD Form 2962-2; OMB Control Number 0704-0542.

Type of Request: Revision.

Number of Respondents: 22,225.

Responses per Respondent: 1.

Annual Responses: 22,225.

Average Burden per Response: 10 minutes.

Annual Burden Hours: 3,704.

Needs and Uses: The information collection requirement is necessary because the Joint Personnel Adjudication System, Defense Information System for Security, Secure Web Fingerprint Transmission, and Defense Central Index of Investigations require personal data collection to facilitate the granting of access to the suite of DMDC systems to Security Managers for the purpose of the initiation, investigation and adjudication of information relevant to DoD security clearances and employment suitability determinations for active duty military, civilian employees and contractors requiring the aforementioned clearances. As a suite of Personnel Security Systems, they are the authoritative source for clearance information resulting in accesses determinations to sensitive/classified information and facilities.

Affected Public: Business or other for-profit.

Frequency: As required.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Mr. Frederick Licari.

Requests for copies of the information collection proposal should be sent to Mr. Licari at whs.mc-alex.esd.mbx.dd-dod-information-collections@mail.mil.

Dated: September 17, 2018.
Shelly E. Finke,
Alternate OSD Federal Register, Liaison Officer, Department of Defense.

[FR Doc. 2018-20485 Filed 9-19-18; 8:45 am]

BILLING CODE 5001-06-P